ENVIRONMENTAL PROTECTION AGENCY

40 CFR Part 52

[NM36-1-7372b; FRL-7140-3]

Approval of Revision to State Implementation Plan; New Mexico; Doña Ana County State Implementation Plan for Ozone; Emission Inventory; Permits; Approval of Waiver of Nitrogen Oxides Control Requirements; Volatile Organic Compounds, Nitrogen Oxides, Ozone

AGENCY: Environmental Protection Agency (EPA).

ACTION: Proposed rule.

SUMMARY: The EPA is providing direct final approval of the New Mexico State Implementation Plan (SIP) for the Doña Ana County ozone nonattainment area. The area was designated nonattainment for ozone and classified as “marginal” in 1995. New Mexico submitted its SIP for the Doña Ana County area in 1997 requesting approval of the SIP and requesting approval of a waiver of nitrogen oxides (NOX) requirements contained in section 182(f) of the Clean Air Act as amended in 1990 (the Act). With this action the EPA is providing direct final approval of the Doña Ana County nonattainment area SIP and waiver of NOX requirements. The waiver for NOX requirements is granted because the area has attained the one-hour ozone standard without them within the deadline prescribed by the Act. A detailed rationale for the approval is set forth in the direct final rule. If no adverse comments are received in response to this proposed rule, no further activity is contemplated in relation to this rule. If we receive adverse comments, the direct final rule will be withdrawn, and all public comments received will be addressed in a subsequent final rule based on this proposed rule. We will not institute a second comment period on this action. Any parties interested in commenting on this action should do so at this time. Please see the direct final notice of this action located elsewhere in today's Federal Register for a detailed description of the New Mexico revision to the SIP.

DATES: Comments on this proposed rule must be received by March 11, 2002.

ADDRESSES: You should address comments on this action to Mr. Matthew Witosky, EPA Region 6, Air Planning Section (6PD-L), 1445 Ross Avenue, Suite 1200, Dallas, Texas 75202. Copies of all materials considered in this rulemaking may be examined during normal business hours at the following locations: EPA Region 6 offices, 1445 Ross Avenue, Suite 700, Dallas, Texas 75202, and at New Mexico Environment Department, Air Monitoring & Control Strategy Bureau, 1190 St. Francis Drive, Room So. 2100, Santa Fe, NM 87503.

FOR FURTHER INFORMATION CONTACT: Mr. Matthew Witosky at (214) 665-7214.

List of Subjects in 40 CFR Part 52

Environmental protection, Air pollution control, Hydrocarbons, Incorporation by reference, Intergovernmental relations, Nitrogen Oxides, Volatile Organic Compounds, Ozone, Reporting and recordkeeping requirements.

Authority: 42 U.S.C. 7401-7671q.

Dated: February 1, 2002.
Christine Todd Whitman,
Administrator.

[FR Doc. 02-3102 Filed 2-7-02; 8:45 am]

BILLING CODE 6560-50-P